SECURITIES AND EXCHANGE COMMISSION

[Release No. 34-60559; File No. SR-ISE-2009-27]

Self-Regulatory Organizations; International Securities Exchange, LLC; Order Granting Approval of a Proposed Rule Change as Modified by Amendment No. 1 Thereto to Adopt Rules Implementing the Options Order Protection and Locked/Crossed Market Plan

August 21, 2009.

Correction

In notice document E9-20788 beginning on page 44425 in the issue of Friday, August 28, 2009, make the following correction:

On page 44425, in the second column, the date underneath the subject was inadvertently omitted. The date should read as set forth above.

[FR Doc. Z9-20788 Filed 9-4-09; 8:45 am]

BILLING CODE 1505-01-D